DEPARTMENT OF THE INTERIOR

Bureau of Indian Affairs

Tribal Consultation on Indian Education Topics

AGENCY: Bureau of Indian Affairs, Interior.

ACTION: Notice of tribal consultation meeting.

SUMMARY: Notice is hereby given that the Bureau of Indian Affairs (BIA) will conduct a consultation meeting to obtain oral and written comments concerning revisions to the application, instructions, and ranking criteria for replacement construction of education facilities for the 2001 priority ranking process.

DATES: The consultation meeting will be held May 1 through May 3, 2001 in Albuquerque, New Mexico at the address noted below. Written comments must be received on or before April 24, 2001 at the address below. The meeting will begin each day at 9:00 a.m. and continue until 3:00 p.m. (local time) or until all meeting participants have had an opportunity to make comments.

ADDRESSES: The meeting will be held at the Wyndham Hotel (Albuquerque Airport), 2910 Yale Boulevard SE, Albuquerque, New Mexico 87106, tel. 505-843-7000.

Send written comments on the consultation topic to the BIA Office of Indian Education Programs at 1849 C St. NW, MS-3512 MIB, Washington, D.C. 20240 or to 201 Third St. NW, Suite 510, Albuquerque, New Mexico 87103.

FOR FURTHER INFORMATION CONTACT: Comments regarding the application process, instructions, or ranking criteria may be submitted to Dr. Kenneth G. Ross, Special Assistant to the Director, Office of Indian Education Programs, 201 Third St. NW, Suite 510, Albuquerque, New Mexico 87103, (505) 346-6544, Fax (505)346-6553, or to applicable Education Line Officers.

SUPPLEMENTARY INFORMATION: The meeting is a follow-up to the replacement school application and priority ranking process conducted by the BIA in 1999. The session will provide an opportunity for Indian tribes, school boards, parents, Indian organizations, and other interested parties to comment on issues raised during the previous ranking process and possible changes to be made in the 2001 ranking process. The proposed ranking of replacement school applications for future construction supports the Administration's commitment to improve educational teaching and learning environments for Native American children by replacing deteriorated school structures with quality educational facilities.

The Bureau's application evaluation criteria have been developed to determine the extent of unfavorable conditions which may exist at an educational facility. The criteria are intended to provide information regarding: structural problems; deteriorated infrastructure and facility conditions; building and building system code violations; unmet health, safety, and handicapped requirements; and the unmet spatial and educational program needs of Bureau-funded schools. Applications for school projects will be evaluated and rated against the published criteria. The highest ranking projects will be identified for future budget requests as specified in the Bureau's annually updated 5-Year Plan for Capital Asset Management.

25 U.S.C. 2005(c) requires the Bureau to prepare and submit a list of proposed projects, ranked in priority order, when any budget request for school construction is presented. The Bureau uses the priority list to determine the order in which Congressional appropriations are requested to fund educational facilities replacement construction projects. This ensures that scarce Federal resources will be used to correct the most severe deficiencies at Bureau-funded educational facilities.

The Bureau, by individual letter, has notified the Tribes and Tribal school boards regarding the scheduled consultation meeting. In addition, notice of the meeting has been announced and distributed nationwide in the Bureau's facilities management newsletter. The meeting supports administrative policy on tribal consultation by encouraging maximum direct participation of representatives of tribal governments, tribal organizations, and BIA funded schools in important processes.

This notice is published in accordance with the authority delegated by the Secretary of the Interior to the Assistant Secretary—Indian Affairs by 209 DM 8.1.

Written Comments

Comments, including names, street addresses, and other contact information of respondents, will be available for public review at the address listed under ADDRESSES section during regular business hours (7:45 a.m. to 4:15 p.m. EST), Monday through Friday, except Federal holidays. Individual respondents may request confidentiality. If you wish us to withhold your name, street address, and other contact information (such as fax or phone number) from public review or from disclosure under the Freedom of Information Act, you must state this prominently at the beginning of your comment. We will honor your request to the extent allowable by law. We will make available for public inspection in their entirety all submissions from organizations or businesses, and from individuals identifying themselves as representatives or officials of organizations or businesses.

Dated: April 12, 2001.
James H. McDivitt,
Deputy Assistant Secretary—Indian Affairs (Management).

[FR Doc. 01-9610 Filed 4-17-01; 8:45 am]

BILLING CODE 4310-02-P